DEPARTMENT OF HEALTH AND HUMAN SERVICES

National Institutes of Health

National Institute on Aging; Amended Notice of Meeting

Notice is hereby given of a change in the meeting of the National Institute on Aging Special Emphasis Panel, March 6, 2001, 7 p.m. to March 7, 2001, 4:30 p.m., John's Hopkins University, Cognitive Neuropharmacology Unit, The Champlain Bldg, Suite 600, 6410 Rockledge Drive, Bethesda MD 20817-1844 which was published in the Federal Register on February 12, 2001, 66 FR 9872.

The meeting to be held on March 6 and 7, 2001 will now be held on March 19 and 20. The meeting is closed to the public.

Dated: March 20, 2001.
LaVerne Y. Stringfield,
Director, Office of Federal Advisory Committee Policy.

[FR Doc. 01-7471 Filed 3-26-01; 8:45 am]

BILLING CODE 4140-01-M